DEPARTMENT OF THE TREASURY

Identification of an Entity Pursuant to Executive Order 13582 of August 17, 2011, “Blocking Property of the Government of Syria and Prohibiting Certain Transactions With Respect to Syria.”

AGENCY: Office of Foreign Assets Control, Treasury.

ACTION: Notice.

SUMMARY: The Treasury Department's Office of Foreign Assets Control (“OFAC”) is publishing the name of an entity identified on March 5, 2012, as an entity whose property and interests in property are blocked pursuant to Executive Order 13582 of August 17, 2011, “Blocking Property of the Government of Syria and Prohibiting Certain Transactions with Respect to Syria.”

FOR FURTHER INFORMATION CONTACT: Assistant Director, Compliance Outreach & Implementation, Office of Foreign Assets Control, Department of the Treasury, Washington, DC 20220, Tel.: 202/622-2490.

SUPPLEMENTARY INFORMATION:

Electronic and Facsimile Availability

This document and additional information concerning OFAC are available from OFAC's Web site (www.treasury.gov/ofac) or via facsimile through a 24-hour fax-on-demand service, Tel.: 202/622-0077.

Background

On August 18, 2011, the President issued Executive Order 13582 of August 17, 2011, “Blocking Property of the Government of Syria and Prohibiting Certain Transactions with Respect to Syria,” (“the Order”) pursuant to, inter alia, the International Emergency Economic Powers Act (50 U.S.C. 1701-06). In the Order, the President took additional steps with respect to the national emergency declared in Executive Order 13338 of May 11, 2004.

Section 1 of the Order blocks all property and interests in property that are in the United States, that come within the United States, or that are or come within the possession or control of any United States person, including any overseas branch, of the Government of Syria, which is defined to include its agencies, instrumentalities, and controlled entities.

On March 5, 2012, the Director of OFAC identified, pursuant to Section 1 of the Order, an entity whose property and interests in property are blocked. The listing for this entity is below.

Entity:

GENERAL ORGANIZATION OF RADIO AND TV (a.k.a. SYRIAN DIRECTORATE GENERAL OF RADIO & TELEVISION EST, a.k.a. GENERAL RADIO AND TELEVISION CORPORATION, a.k.a. RADIO AND TELEVISION CORPORATION, a.k.a. RTV SYRIA, a.k.a. GORT), Al Oumaween Square, P.O. Box 250, Damascus, Syria [Syria]

Dated: March 5, 2012.
Adam J. Szubin,
Director, Office of Foreign Assets Control.

[FR Doc. 2012-5814 Filed 3-9-12; 8:45 am]

BILLING CODE 4811-AL-P